DEPARTMENT OF COMMERCE

Foreign-Trade Zones Board

[S-89-2023]

Foreign-Trade Zone 244—Riverside County, CA; Withdrawal of Application for Expansion of Subzone 244A

Notice is hereby given of the withdrawal of the application submitted by the March Joint Powers Authority, grantee of FTZ 244, requesting authority to expand Subzone 244A on behalf of Skechers USA, Inc. in Banning, California. The application was docketed on May 16, 2023 (88 FR 32726, May 22, 2023). The withdrawal was requested by the grantee on February 26, 2024, following notification pursuant to 15 CFR 400.33(e)(1) of the examiner's preliminary recommendation not to approve the application.

Dated: February 28, 2024.
Elizabeth Whiteman,
Executive Secretary.

[FR Doc. 2024-04491 Filed 3-1-24; 8:45 am]

BILLING CODE 3510-DS-P